DEPARTMENT OF DEFENSE

Department of the Navy

[Docket ID: USN-2014-0015]

Submission for OMB Review; Comment Request

ACTION: Notice.

SUMMARY: The Department of Defense has submitted to OMB for clearance, the following proposal for collection of information under the provisions of the Paperwork Reduction Act.

DATES: Consideration will be given to all comments received by February 27, 2017.

FOR FURTHER INFORMATION CONTACT: Fred Licari, 571-372-0493.

SUPPLEMENTARY INFORMATION:

Title, Associated Form and OMB Number: Academic Certification for Marine Corps Officer Candidate Program; NAVMC Form 10469; OMB Control Number 0703-0011.

Type of Request: Reinstatement with change.

Number of Respondents: 3,500.

Responses per Respondent: 1.

Annual Responses: 3,500.

Average Burden per Response: 15 minutes.

Annual Burden Hours: 875.

Needs and Uses: The Marine Corps Officer Selection Officer (OSO) will submit the completed original NAVMC Form 10469 with the officer applications for the Platoon Leaders Class and Officer Candidate Course (OCC) Programs, when the applicant has not yet completed the requirements for a degree. This form is to be completed by a school official of the applicant's college or university and verified by the OSO. Use of this form is the only accurate and specific method to determine an officer applicant's academic qualifications.

Affected Public: Individuals or households.

Frequency: On occasion.

Respondent's Obligation: Required to Obtain or Retain Benefits.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 03F09, Alexandria, VA 22350-3100.

Dated: January 23, 2017.
Aaron Siegel,
Alternate OSD Federal Register Liaison Officer, Department of Defense.

[FR Doc. 2017-01823 Filed 1-26-17; 8:45 am]

BILLING CODE 5001-06-P